OFFICE OF THE UNITED STATES TRADE REPRESENTATIVE

Notification of the Third United States-Mexico-Canada Agreement Labor Council Meeting

AGENCY: Office of the United States Trade Representative.

ACTION: Notice and request for comments.

SUMMARY: The Parties to the Agreement between the United States of America, the United Mexican States, and Canada (USMCA) intend to hold the third meeting of the Labor Council on December 9-10, 2025. The meeting will include a closed in-person government-to-government Labor Council session in Ottawa, Canada, and a virtual public session on implementation of the USMCA labor chapter. The Office of the United States Trade Representative (USTR) and the U.S. Department of Labor (DOL) invite comments and questions from the public in advance of the virtual public session.

DATES:

November 25, 2025: Details for registering for participation in the virtual public session will be made available on DOL and USTR websites.

December 1, 2025, 11:59 p.m. EST: The deadline for submission of questions or comments.

December 10, 2025, 9:00 a.m. to 12:00 p.m. EST: The Labor Council will convene a virtual public session.

ADDRESSES: Submit written questions and/or comments to MBX.USTR.USMCAhotline@ustr.eop.gov and ILAB-Outreach@DOL.gov. All submissions must include the subject line USMCA Labor Council Meeting.

FOR FURTHER INFORMATION CONTACT: Brenna Dougan, Deputy Assistant U.S. Trade Representative for Labor Affairs, USTR at 202-395-7391, or Samantha Tate, Division Chief for USMCA Monitoring and Enforcement, Office of Trade and Labor Affairs, Bureau of International Labor Affairs, DOL at 202-693-4920.

SUPPLEMENTARY INFORMATION:

I. Background

Article 23.14 of the USMCA establishes a Labor Council composed of senior government representatives from trade and labor ministries that must meet every two years. The Council last met on June 28-29, 2023, and agreed to hold another meeting in 2025. The Labor Council may consider any matter within the scope of Chapter 23 (Labor) and perform other functions as the Parties may decide.

In conducting its activities, including meetings, the Labor Council must provide a means for receiving and considering the views of interested persons on matters related to the labor chapter. If practicable, meetings will include a public session or other means for Labor Council members to meet with the public to discuss matters relating to the implementation of Chapter 23 (Labor). Accordingly, the Parties invite questions and comments from interested persons, and the December 9-10, 2025, Labor Council meeting will include a virtual public session.

Labor Council decisions and reports are made by consensus and will be made publicly available unless the Council decides otherwise. The Labor Council issues a joint summary report or statement on its work at the end of each Council meeting.

II. Labor Council Meeting

The Labor Council will include an in-person, government-to-government closed session to discuss the Parties' Chapter 23 (Labor) obligations and to review the operation and effectiveness of the Chapter, in line with Article 23.14.5 (Labor Council). There will also be a virtual public session. The government-to-government session will not be open to the public.

III. Public Session on USMCA Chapter 23 Implementation

The Labor Council invites members of the public to participate in a virtual public session on December 10, 2025, from 9:00 a.m. to 12:00 p.m. EST, to address USMCA Chapter 23 (Labor) implementation. Details for registering for virtual participation in the public session will be made available by November 25 on both the USTR website at https://ustr.gov/issue-areas/labor, and the DOL website at https://www.dol.gov/agencies/ilab/our-work/trade/labor-rights-usmca.

IV. Comments

The Labor Council is interested in the views of interested persons on matters related to the USMCA labor chapter. DOL and USTR invite specific comments and questions about the labor chapter that could be addressed at the public session. When preparing comments and questions, we encourage submitters to refer to Chapter 23 of the USMCA (https://ustr.gov/sites/default/files/files/agreements/FTA/USMCA/Text/23-Labor.pdf) and the USMCA Interagency Labor Committee for Monitoring and Enforcement Final Procedural Guidelines for Petitions Pursuant to the USMCA, 88 FR 40914 (June 22, 2023) (https://www.govinfo.gov/content/pkg/FR-2023-06-22/pdf/2023-12865.pdf).

Katherine Mastman,
Assistant U.S. Trade Representative for Labor Affairs, Office of the United States Trade Representative.

[FR Doc. 2025-19818 Filed 11-6-25; 8:45 am]

BILLING CODE 3390-F4-P